DEPARTMENT OF THE INTERIOR

Minerals Management Service

Record of Decision (ROD) for the Environmental Impact Statement (EIS) on the Proposed Use of Floating, Production, Storage, and Offloading (FPSO) Systems on the Gulf of Mexico Outer Continental Shelf, Western and Central Planning Areas

AGENCY: Minerals Management Service, Interior.

ACTION: ROD on the use of FPSO systems.

SUMMARY: The MMS has completed a ROD for the EIS on the proposed use of FPSO systems in the deepwater areas (generally beyond 650 feet or 200 meters water depth) of the Western and Central Planning Areas of the Gulf of Mexico Outer Continental Shelf.

ADDRESSES: The ROD has been posted on the MMS website http://www.mms.gov. Copies of the ROD are available upon request from the Public Information Office (MS 5034), Minerals Management Service, Gulf of Mexico OCS Region, 1201 Elmwood Park Boulevard, New Orleans, Louisiana 70123-2394.

FOR FURTHER INFORMATION CONTACT: Questions regarding the ROD should be directed to Ms. Deborah Cranswick, Leasing and Environment, at (504) 736-2744. The mailing address is Minerals Management Service, Gulf of Mexico OCS Region, 1201 Elmwood Park Boulevard, New Orleans, Louisiana 70123-2394.

SUPPLEMENTARY INFORMATION: The MMS has examined the concept of allowing the use of FPSOs in the Central and Western GOM Planning Areas and found no compelling environmental reason why development and production plans proposing to use this method of production should not be submitted by the oil and gas industry for evaluation by the agency. The EIS prepared for MMS under contract found that FPSO systems do not pose a greater threat to the environment than do currently accepted development and production systems, given that proper mitigation measures, keyed to the specific proposed operations and location, be applied. Further technical and environmental evaluation will be required for specific FPSO proposals. The MMS will evaluate the potential emissions and impacts of any proposed use of an FPSO within 100 km of the Breton NWA, and will impose emission restrictions and mitigation requirements to ensure that no significant air quality impacts to the Class I area occurs from any proposed FPSO operations. Any proposed FPSO operations that are not within the range of operations evaluated in the programmatic EIS will require more extensive technical and environmental review to demonstrate equivalence to what was investigated by the EIS.

The MMS will defer to U.S. Coast Guard (USCG) jurisdiction and will not accept proposals for the use of FPSOs within the Lightering Prohibited Areas established by USCG (33 CFR Part 156 Subpart C) for 2 years. The 2-year period will allow additional discussions with USCG on the potential use and impacts of FPSO operations within the Lightering Prohibited Areas. The time will allow for a fuller discussion of what measures might be necessary to protect the environment should FPSOs be considered for use within the Lightering Prohibited Areas, and review of the applicability of the environmental assessment completed 10 years ago by USCG in support of the rulemaking that established the Lightering Prohibited Areas. The MMS will continue to work with USCG to delineate jurisdictional issues based on the Memorandum of Understanding between the two agencies.

The ROD is the last step in the National Environmental Policy Act process. The ROD summarizes the proposed action and the alternatives evaluated in the EIS, the conclusions of the EIS impact analyses, and other information considered in reaching the decision.

Dated: December 13, 2001.
Carolita U. Kallaur,
Associate Director for Offshore Minerals Management.

[FR Doc. 01-32094 Filed 12-28-01; 8:45 am]

BILLING CODE 4310-MR-P